DEPARTMENT OF COMMERCE

Foreign-Trade Zones Board

[B-48-2023]

Foreign-Trade Zone (FTZ) 164; Authorization of Production Activity; Vallourec Star, LP; (Semi-Finished Steel Casing); Muskogee, Oklahoma

On August 11, 2023, Vallourec Star, LP submitted a notification of proposed production activity to the FTZ Board for its facility within Subzone 164A, in Muskogee, Oklahoma.

The notification was processed in accordance with the regulations of the FTZ Board (15 CFR part 400), including notice in the Federal Register inviting public comment (88 FR 56589, August 18, 2023). On December 11, 2023, the applicant was notified of the FTZ Board's decision that no further review of the activity is warranted at this time. The production activity described in the notification was authorized, subject to the FTZ Act and the FTZ Board's regulations, including section 400.14.

Dated: December 11, 2023.
Elizabeth Whiteman,
Executive Secretary.

[FR Doc. 2023-27481 Filed 12-13-23; 8:45 am]

BILLING CODE 3510-DS-P